DEPARTMENT OF JUSTICE

Antitrust Division

Notice Pursuant to the National Cooperative Research and Production Act of 1993—Cooperative Research Group H2ICE Demonstration Vehicle

Notice is hereby given that, on November 7, 2024, pursuant to section 6(a) of the National Cooperative Research and Production Act of 1993, 15 U.S.C. 4301 et seq. (“the Act”), Cooperative Research Group H2ICE Demonstration Vehicle (“H2ICE”) has filed written notifications simultaneously with the Attorney General and the Federal Trade Commission disclosing its expiration and changes in its membership. The notifications were filed for the purpose of extending the Act's provisions limiting the recovery of antitrust plaintiffs to actual damages under specified circumstances. Specifically, notice is hereby given that H2ICE expired on May 30, 2024. Prior to its expiration, Allison Transmission, Inc., Indianapolis, IN; Cummins, Columbus, IN; Eaton, Galesburg, MI; Faurecia Hydrogen Solutions North America, Inc., Auburn Hills, MI; JCB Power Systems Limited, Staffordshire, UNITED KINGDOM; PHINIA Delphi USA LLC, Auburn Hills, MI; SEM AB, Amal, KINGDOM OF SWEDEN; Tenneco, Lake Forest, IL; and Woodward Inc., Windsor, CO, had been added as parties to this venture.

No other changes have been made in either the membership or planned activity of the group research project.

On August 14, 2023, H2ICE filed its original notification pursuant to section 6(a) of the Act. The Department of Justice published a notice in the Federal Register pursuant to section 6(b) of the Act on November 20, 2023 (88 FR 80763).

The last notification was filed with the Department on April 18, 2024. A notice was published in the Federal Register pursuant to section 6(b) of the Act on June 28, 2024 (89 FR 54042).

Suzanne Morris,
Deputy Director Civil Enforcement Operations, Antitrust Division.

[FR Doc. 2025-03657 Filed 3-6-25; 8:45 am]

BILLING CODE P